NUCLEAR REGULATORY COMMISSION

[NRC-2013-0196]

State of Georgia Relinquishment of Sealed Source and Device Evaluation and Approval Authority

AGENCY: Nuclear Regulatory Commission.

ACTION: Relinquishment of state regulatory authority and reassertion of NRC authority.

SUMMARY: Notice is hereby given that effective August 20, 2013, the U.S. Nuclear Regulatory Commission (NRC) has assumed regulatory authority to evaluate and approve sealed source and device (SS&D) applications in the State of Georgia and approved the Governor of the State of Georgia's request to relinquish this authority.

DATES: The NRC has assumed regulatory authority for evaluating and approving sealed source and device applications on August 20, 2013.

ADDRESSES: Please refer to Docket ID NRC-2013-0196 when contacting the NRC about the availability of information regarding this document. You may access publicly-available information related to this document using any of the following methods:

• Federal Rulemaking Web site: Go to http://www.regulations.gov and search for Docket ID NRC-2013-0196. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Stephen Poy, Office of Federal and State Materials and Environmental Management Programs, U.S. Nuclear Regulatory Commission, Washington, DC 20555-0001; telephone: 301-415-7135; email: Stephen.Poy@nrc.gov.

SUPPLEMENTARY INFORMATION: Section 274b. of the Atomic Energy Act of 1954 as amended (AEA), provides the NRC authority to enter into agreements with States so they can assume, and the NRC can relinquish regulatory authority over, specified AEA radioactive materials and activities. On December 15, 1969, Georgia entered into a Section 274b. Agreement with the Atomic Energy Commission (the predecessor regulatory agency to the NRC) to regulate source, byproduct, and special nuclear material in quantities not sufficient to form a critical mass. Currently, the State of Georgia has an Agreement with the NRC which recognizes the State's regulatory authority to evaluate and approve SS&D applications.

On June 5, 2013, the NRC received a letter from Georgia Governor Nathan Deal (ADAMS Accession No. ML13165A092) requesting to relinquish the State's regulatory authority to evaluate and approve SS&D applications, and asking the NRC to assume regulatory authority over this program.

The Governor of Georgia stated that it has become increasingly challenging for Georgia to recruit and retain the personnel necessary to perform the specialized SS&D activities, and concluded that it is in the best interest of the State to return regulatory authority to evaluate and approve SS&D applications to the NRC in order to focus more attention and resources on the primary areas of the State's radioactive materials program. The State of Georgia currently has 15 manufacturers with 77 active SS&D sheets in the national registry.

The Commission approved the request (ADAMS Accession No. ML13219A293) and has notified the State of Georgia that effective August 20, 2013, the NRC has assumed authority to evaluate and approve sealed source and device applications within the State (ADAMS Accession No. ML13221A153).

The State of Georgia will retain authority to regulate the manufacture and use of sealed sources and devices within the State in accordance with its Section 274b. Agreement with the NRC.

Dated at Rockville, Maryland, this 16th day of August, 2013.
For the Nuclear Regulatory Commission.
Mark A. Satorius,
Director, Office of Federal and State Materials, and Environmental Management Programs.

[FR Doc. 2013-20494 Filed 8-21-13; 8:45 am]

BILLING CODE 7590-01-P